DEPARTMENT OF HEALTH AND HUMAN SERVICES

Health Resources and Services Administration

Meeting of the National Advisory Committee on Rural Health and Human Services

AGENCY: Health Resources and Services Administration (HRSA), Department of Health and Human Services.

ACTION: Notice.

SUMMARY: In accordance with the Federal Advisory Committee Act, this notice announces that the Secretary's National Advisory Committee on Rural Health and Human Services (NACRHHS) scheduled a public meeting. Information about NACRHHS and the agenda for this meeting can be found on the NACRHHS website at https://www.hrsa.gov/advisory-committees/rural-health/index.html.

DATES:

• Wednesday, September 6, 2023, 9 a.m.-5 p.m. Mountain Daylight Time (MDT);

• Thursday, September 7, 2023, 9 a.m.-5 p.m. MDT; and

• Friday, September 8, 2023, 9 a.m.-12 p.m. MDT.

ADDRESSES: This meeting will be held in the Hilton Garden Inn—Downtown, 125 N Cascade Avenue, Colorado Springs, Colorado. The meeting will also be accessible to the public via Zoom. Meeting details are included below. Please use the following information to join the meeting: https://us02web.zoom.us/j/83751255130?pwd=eU5RMzhCMm5WNmh4SXlHNUloS3ViUT09 Passcode: 884256.

FOR FURTHER INFORMATION CONTACT: Sahira Rafiullah, Executive Secretary of NACRHHS, 5600 Fishers Lane, Rockville, Maryland 20857; 240-316-5874; or srafiullah@hrsa.gov.

SUPPLEMENTARY INFORMATION: NACRHHS provides advice and recommendations to the Secretary of Health and Human Services on policy, program development, and other matters of significance concerning both rural health and rural human services. At the September meeting, NACRHHS will discuss the availability of disability services in rural areas. Members of the public will have the opportunity to provide comments. Public participants wishing to provide oral comments must submit a written version of their statement at least 3 business days in advance of the scheduled meeting. Oral comments will be honored in the order they are requested and may be limited as time permits. Public participants wishing to offer a written statement should send it to Sahira Rafiullah, using the contact information above, at least 3 business days prior to the meeting. Individuals who plan to attend and need special assistance or other reasonable accommodation should notify Sahira Rafiullah at the address and phone number listed above at least 10 business days prior to the meeting.

Amy P. McNulty,
Deputy Director, Executive Secretariat.

[FR Doc. 2023-17526 Filed 8-15-23; 8:45 am]

BILLING CODE 4165-15-P